DEPARTMENT OF COMMERCE

International Trade Administration

[A-533-824]

Polyethylene Terephthalate Film, Sheet, and Strip From India: Preliminary Results and Partial Rescission of Antidumping Duty Administrative Review; 2019-2020

AGENCY: Enforcement and Compliance, International Trade Administration, U.S. Department of Commerce.

SUMMARY: The Department of Commerce (Commerce) is conducting an administrative review of the antidumping duty order on polyethylene terephthalate film, sheet, and strip (PET film) from India. The period of review (POR) is July 1, 2019, through June 30, 2020. This review covers Jindal Poly Films Ltd. (Jindal) and SRF Limited of India (SRF), producers and exporters of PET film from India. Commerce preliminarily determines that Jindal and SRF did not make sales of subject merchandise below normal value during the POR. We invite interested parties to comment on these preliminary results.

DATES: Applicable August 4, 2021.

FOR FURTHER INFORMATION CONTACT: Jacqueline Arrowsmith at (202) 482-5255; AD/CVD Operations, Office VII, Enforcement and Compliance, International Trade Administration, U.S. Department of Commerce, 1401 Constitution Avenue NW, Washington, DC 20230.

SUPPLEMENTARY INFORMATION:

Background

On July 1, 2020, Commerce published in the Federal Register a notice of opportunity to request an administrative review of the antidumping duty order on PET film from India, for the period July 1, 2019, through June 30, 2020.¹ Subsequently, on September 3, 2020, in accordance with 19 CFR 351.222(c)(1)(i), Commerce published a notice of initiation of an administrative review of the antidumping duty order on PET film from India.²

¹ See Antidumping or Countervailing Duty Order, Finding or Suspended Investigation; Opportunity to Request Administrative Review, 85 FR 39531 (July 1, 2020).

² See Initiation of Antidumping and Countervailing Duty Administrative Reviews, 85 FR 54983 September 3, 2020 (Initiation Notice).

On March 30, 2021, in accordance with section 751(a)(3)(A) of the Tariff Act of 1930, as amended (the Act) and 19 CFR 351.213(h)(2), Commerce extended the due date for the preliminary results by 60 days (from April 2, 2021 to July 1, 2021).³ On June 17, 2021, we extended the deadline by an additional 28 days.⁴ The current deadline is July 29, 2021.

³ See Memorandum “Polyethylene Terephthalate (PET) Film, Sheet and Strip from India: Extension of Deadline for Preliminary Results of Antidumping Duty Administrative Review—2019-2020,” dated March 30, 2021.

⁴ See Memorandum “Polyethylene Terephthalate (PET) Film, Sheet and Strip from India: Extension of Deadline for Preliminary Results of Antidumping Duty Administrative Review—2019-2020,” dated June 17, 2021.

For a full description of the methodology underlying our conclusions, see the Preliminary Decision Memorandum. A list of topics included in the Preliminary Decision Memorandum is included as an appendix to this notice. The Preliminary Decision Memorandum is a public document and is on file electronically via Enforcement and Compliance's Antidumping and Countervailing Duty Centralized Electronic Service System (ACCESS). ACCESS is available to registered users at http://access.trade.gov. In addition, a complete version of the Preliminary Decision Memorandum can be accessed directly at http://enforcement.trade.gov/frn/index.html.

Scope of the Order ⁵

⁵ See Notice of Amended Final Antidumping Duty Determination of Sales at Less Than Fair Value and Antidumping Duty Order: Polyethylene Film, Sheet and Strip from India, 67 FR 44176 (July 1, 2002) (Order).

The products covered by this Order are all gauges of raw, pretreated, or primed polyethylene terephthalate film, sheet, and strip, whether extruded or coextruded. Excluded are metallized films and other finished films that have had at least one of their surfaces modified by the application of a performance-enhancing resinous or inorganic layer of more than 0.00001 inches thick. Imports of PET film are classifiable in the Harmonized Tariff Schedule of the United States (HTSUS) under item number 3920.62.00.90. HTSUS subheadings are provided for convenience and customs purposes. The written description of the scope of the Order is dispositive.

Partial Rescission of Administrative Review

Commerce initiated a review of eight separate companies in this proceeding.⁶ We are rescinding this administrative review with respect to six of these companies: (1) Ester Industries Ltd. (Ester); (2) Garware Polyester Ltd. (Garware); (3) MTZ Polyesters Ltd. (MTZ); (4) Polyplex Corporation (Polyplex); (5) Uflex Ltd. (Uflex); and (6) Vacmet India Ltd. (Vacmet), pursuant to 19 CFR 351.213(d)(1), because all review requests of these companies were timely withdrawn. Accordingly, the companies that remain subject to the instant review are Jindal Poly Films Ltd. (Jindal) and SRF Limited of India (SRF).⁷

⁶ See Initiation Notice. As noted above, SRF Ltd. is the same company as SRF Limited of India.

⁷ SRF Limited and SRF Limited of India are the same company. See SRF's Letter, “Polyethylene Terephthalate (PET) Film, Sheet and Strip from India/SRF Limited/Comments on U.S. Customs and Border Protection (CBP) Data Release,” dated November 30, 2020. SRF states that “{t}here is only one SRF producing the subject merchandise . . . SRF Limited.” For purposes of this review, when we refer to SRF Limited, we will use the formal name, SRF Limited of India.

Methodology

Commerce is conducting this review in accordance with section 751(a)(2) of the Act. Export price is calculated in accordance with section 772 of the Act. Normal value is calculated in accordance with section 773 of the Act.

Preliminary Results of Review

As a result of this review, we preliminarily determine the following weighted-average dumping margins for the period July 1, 2019, through June 30, 2020.

Manufacturer/exporter | Weighted- average margin (percent)
Jindal Poly Films Ltd. | 0.00
SRF Limited of India | 0.00

Disclosure and Public Comment

We intend to disclose the calculations performed to parties in this proceeding within five days after public announcement of the preliminary results in accordance with 19 CFR 351.224(b). Pursuant to 19 CFR 351.309(c), interested parties may submit case briefs not later than 30 days after the date of publication of this notice. Rebuttal briefs, limited to issues raised in the case briefs, may be filed not later than seven days after the date for filing case briefs.⁸ Parties who submit case briefs or rebuttal briefs in this proceeding are encouraged to submit with each argument: (1) A statement of the issue; (2) a brief summary of the argument; and (3) a table of authorities.⁹

⁸ See 19 CFR 351.309(d); see also Temporary Rule Modifying AD/CVD Service Requirements Due to COVID-19, 85 FR 17006, 17007 (March 26, 2020) (“To provide adequate time for release of case briefs via ACCESS, E&C intends to schedule the due date for all rebuttal briefs to be 7 days after case briefs are filed (while these modifications remain in effect)”); and Temporary Rule Modifying AD/CVD Service Requirements Due to COVID-19; Extension of Effective Period, 85 FR 41363 (July 10, 2020).

⁹ See 19 CFR 351.303 (for general filing requirements).

Pursuant to 19 CFR 351.310(c), interested parties who wish to request a hearing, must submit a written request to the Acting Assistant Secretary for Enforcement and Compliance, filed electronically via ACCESS. An electronically filed document must be received successfully in its entirety by Commerce's electronic records system, ACCESS, by 5 p.m. Eastern Time within 30 days after the date of publication of this notice. Requests should contain: (1) The party's name, address, and telephone number; (2) the number of participants; and (3) a list of issues to be discussed. Issues raised in the hearing will be limited to those raised in the respective case briefs. Commerce intends to issue the final results of this administrative review, including the results of its analysis of the issues raised in any written briefs, not later than 120 days after the date of publication of this notice, unless extended, pursuant to section 751(a)(3)(A) of the Act.

Assessment Rates

Upon completion of this administrative review, Commerce shall determine, and U.S. CBP shall assess, antidumping duties on all appropriate entries. If a respondent's weighted-average dumping margin is not zero or de minimis (i.e., less than 0.5 percent) in the final results of this review, we will calculate importer-specific ad valorem assessment rates on the basis of the ratio of the total amount of dumping calculated for an importer's examined sales and the total entered value of those same sales, in accordance with 19 CFR 351.212(b)(1).¹⁰ Where an importer-specific ad valorem assessment rate is zero or de minimis in the final results of the review, we will instruct CBP to liquidate the appropriate entries without regard to antidumping duties.¹¹

¹⁰ Where Commerce has calculated export subsidies in a companion countervailing duty order administrative review, we have made an adjustment based on the most recently completed review. See Polyethylene Terephthalate Film Sheet and Strip from India: Final Results of Countervailing Duty Administrative Review; 2017, 85 FR 14463 (March 12, 2020).

¹¹ See 19 CFR 351.106(c)(2).

Commerce intends to issue assessment instructions to CBP 35 days after the date of publication of the final results of this administrative review in the Federal Register. If a timely summons is filed at the U.S. Court of International Trade, the assessment instructions will direct CBP not to liquidate relevant entries until the time for parties to file a request for a statutory injunction has expired (i.e., within 90 days of publication.)

Cash Deposit Requirements

The following deposit requirements will be effective for all shipments of PET film from India entered, or withdrawn from warehouse, for consumption on or after the date of publication of the final results of this administrative review, as provided for by section 751(a)(2)(C) of the Act: (1) The cash deposit rate for the company under review will be the rate established in the final results of this review (except, if the rate is zero or de minimis, no cash deposit will be required); (2) for previously reviewed or investigated companies not listed above, the cash deposit rate will continue to be the company-specific rate published for the most recent period; (3) if the exporter is not a firm covered in this review, a prior review, or the less-than-fair-value investigation, but the manufacturer is, the cash deposit rate will be the rate established for the most recent period for the manufacturer of the merchandise; and (4) the cash deposit rate for all other manufacturers or exporters is 5.71 percent.¹² These cash deposit requirements, when imposed, shall remain in effect until further notice.

¹² Order.

Notification to Importers

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification to Interested Parties

We are issuing and publishing these results in accordance with sections 751(a)(1) and 777(i)(1) of the Act and 19 CFR 351.221(b)(4).

Dated: July 29, 2021.
Christian Marsh,
Acting Assistant Secretary for Enforcement and Compliance.

Appendix

List of Topics Discussed in the Preliminary Decision Memorandum

I. Summary

II. Background

III. Partial Rescission of Administrative Review

IV. Scope of the Order

V. Comparisons to Normal Value

VI. Date of Sale

VII. Export Price

VIII. Normal Value

IX. Currency Conversion

X. Recommendation

[FR Doc. 2021-16620 Filed 8-3-21; 8:45 am]

BILLING CODE 3510-DS-P